DEPARTMENT OF LABOR

Occupational Safety and Health Administration

[Docket No. ICR-1218-0096 (2006)]

Temporary Labor Camps; Extension of the Office of Management and Budget's (OMB) Approval of the Information Collection (Paperwork) Requirements

AGENCY: Occupational Safety and Health Administration, Labor.

ACTION: Request for public comment.

SUMMARY: OSHA solicits public comment concerning its request for an extension of the information collection requirements contained in the Temporary Labor Camps Standard (29 CFR 1910.142).

DATES: Comments must be submitted by the following dates:

Hard copy: Your comments must be submitted (Postmarked or received) by February 27, 2006.

Facsimile and electronic transmission: Your comments must be sent by February 27, 2006.

ADDRESSES: You may submit comments, identified by OSHA Docket No. ICR-1218-0096 (2006), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., ET.

Facsimile: If your comments are 10 pages or fewer in length, including attachments, you may fax them to the OSHA Docket Office at (202) 693-1648.

Electronic: You may submit comments through the Internet at http://ecomments.osha.gov/. Follow instructions on the OSHA Webpage for submitting comments.

Docket: For access to the docket to read or download comments or background materials, such as the complete Information Collection Request (ICE) (containing the Supporting Statement, OMB-83-I Form, and attachments), go to OSHA's Webpage at http://www.OSHA.gov. In addition, the ICR, comments and submissions are available for inspection and copying at the OSHA Docket Office at the above address. You also may contact Todd Owen at the address below to obtain a copy of the ICR.

(For additional information on submitting comments, please see the “Public Participation” heading in the SUPPLEMENTARY INFORMATION section of this document.)

FOR FURTHER INFORMATION CONTACT: Todd Owen, Directorate of Standards and Guidance, OSHA, Room N-3609, U.S. Department of Labor, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95)(44 U.S.C. 3506(c)(2)(A)). This program ensures that information is in the desired format, reporting burden (time and costs) is minimal, collection instruments are clearly understood, and OSHA's estimate of the information collection burden is accurate. The Occupational Safety and Health Act of 1970 (the Act)(29 U.S.C. 651 et seq.) authorizes information collection by employers as necessary or appropriate for enforcement of the Act or for developing information regarding the causes and prevention of occupational injuries, illnesses, and accidents (29 U.S.C. 657).

OSHA will be requesting approval from the Office of Management and Budget (OMB) for certain information collection requirements contained in the Temporary Labor Camps Standard (29 CFR 1910.142). The main purpose of these provisions is to eliminate the incidence of communicable disease among temporary labor camp residents. The Standard requires camp superintendents to report immediately to the local health officer the name and address of any individual in the camp known to have, or suspected of having, a communicable disease. Whenever there is a case of suspected food poisoning or an unusual prevalence of any illness in which fever, diarrhea, sore throat, vomiting or jaundice is a prominent symptom, the Standard requires the camp superintendent to report that immediately to the health authority. In addition, the Standard requires that where the toilet rooms are shared, separate toilet rooms must be provided for each sex. These rooms must be marked “for men” and “for women” by signs printed in English and in the native language of the persons occupying the camp, or marked with easily understood pictures or symbols.

II. Special Issues for Comment

OSHA has a particular interest in comments on the following issues:

• Whether the proposed collection of information is necessary for the proper performance of the Agency's functions, including whether the information will have practical utility;

• The accuracy of the Agency's estimate of the burden of the proposed collection of information, including the validity of the methodology and assumptions used, especially the number of temporary labor camps in the United States; and

• The quality, utility, and clarity of the information collected; and

• Ways to minimize the burden on employers who are to respond, including the use of appropriate automated, electronic, mechanical, or other technological collection techniques or other forms of information technology, e.g., permitting electronic submissions of responses.

III. Proposed Actions

OSHA is requesting OMB to extend their approval of the collection of information requirements contained in the Temporary Labor Camps Standard. OSHA will summarize the comments submitted in response to this notice, and will include this summary in its request to OMB. The Agency is requesting a 12-hour decrease in burden hours as a result of employers reporting fewer incidences of employees having, or suspected of having, a communicable disease, suspected food poisoning, or an unusual prevalence of any illness in which fever, diarrhea, sore throat, vomiting, or jaundice is a prominent symptom.

Type of Review: Extension of a currently approved information collection requirement.

Title: Temporary Labor Camps (29 CFR 1910.142).

OMB Number: 1218-0096.

Affected Public: Business or other for-profits; not-for-profit institutions; Federal government; State, local or tribal governments.

Number of Respondents: 711.

Frequency: On occasion.

Average time per Response: Five minutes (.08 hr.) per response.

Estimated Total Burden Hours: 57.

IV. Public Participation—Submission of Comments on This Notice and Internet Access to Comments and Submissions

You may submit comments and supporting materials in response to this notice by (1) hard copy, (2) FAX transmission (facsimile), or (3) electronically through the OSHA Webpage. Because of security-related problems, there may be a significant delay in the receipt of comments by regular mail. Please contact the OSHA Docket Office at (202) 693-2350 (TTY (877) 889-5627) for information about security procedures concerning the delivery of submissions by express delivery, hand delivery and courier service.

All comments, submissions and background documents are available for inspection and copying at the OSHA Docket Office at the above address. Comments and submissions posted on OSHA's Webpage are available at http://www.OSHA.gov. Contact the OSHA Docket Office for information about materials not available through the OSHA Webpage and for assistance using the Webpage to locate docket submissions.

Electronic copies of this Federal Register notice as well as other relevant documents are available on OSHA's Webpage. Since all submissions become public, private information such as social security numbers should not be submitted.

V. Authority and Signature

Jonathan L. Snare, Acting Assistant Secretary of Labor for Occupational Safety and Health, directed the preparation of this notice. The authority for this notice is the Paperwork Reduction Act of 1995 (44 U.S.C. 3506 et seq.), and Secretary of Labor's Order No. 5-2002 (67 FR 65008).

Signed at Washington, DC, on December 20, 2005.
Jonathan L. Snare,
Acting Assistant Secretary of Labor

[FR Doc. 05-24463 Filed 12-23-05; 8:45 am]

BILLING CODE 4510-26-M